DEPARTMENT OF AGRICULTURE

Forest Service

Proposed Amendment of Rogue River, Umpqua and Winema National Forest (NF) Land and Resource Management Plans for the Pacific Connector Gas Pipeline

AGENCY: Forest Service, USDA.

ACTION: Notice of intent to prepare an environmental impact statement for Land and Resource Management Plan amendments—Extension of Scoping Period.

SUMMARY: The USDA Forest Service is proposing to amend the Land and Resource Management Plans (LRMP) of the Rogue River (administered as the Rogue River-Siskiyou NF), Umpqua, and Winema (administered as the Fremont-Winema NF) National Forests to make provision for the proposed Pacific Connector Gas Pipeline (PCGP). The Federal Energy Regulatory Commission (FERC) is the lead agency for the environmental analysis of the construction and operation of the proposed natural gas pipeline (FERC Docket No. CP07-441-000). The FERC has prepared an environmental impact statement (EIS) that discusses the environmental impacts that could result from the construction and operation of the PCGP. FERC issued the FEIS for the PCGP on May 1, 2009.

The U. S. Department of Agriculture, Forest Service is a Cooperating Agency with the FERC in environmental analysis and preparation of the EIS for the PCGP. Certain features of the PCGP Project could not be made consistent with the LRMPs of the Rogue River, Umpqua and Winema National Forests because of the nature of pipeline construction. Therefore, in order to comply with the requirements of the National Forest Management Act (NFMA) the Forest Service must amend these LRMPs to make provision for the PCGP. This notice is extending the scoping period.

DATES: Comments concerning the scope of the analysis were originally requested 30 days from the date the original notice was published in the Federal Register, which was June 15, 2009 (FR Volume 74, No. 113, pg. 28214). Comments are now requested by July 31, 2009. The draft environmental impact statement for amendment of forest plans is expected to be published in August, 2009 and the final environmental impact statement is expected in December, 2009.

ADDRESSES: Send written comments to: Pam Sichting, Umpqua National Forest, 2900 NW., Stewart Parkway, Roseburg, OR 97471. Comments may also be sent via e-mail to: comments-pacificnorthwest-umpqua@fs.fed.us, or via facsimile to 541-957-3495. Comments may be hand-delivered to the above address Monday through Friday, from 8 a.m. till 4:30 p.m., excluding legal holidays.

Comments received in response to this solicitation, including names and addresses of those who comment, will be part of the public record for this proposed action. Comments submitted anonymously will be accepted and considered; however, anonymous comments will not provide the respondent with standing to appeal the subsequent decision.

FOR FURTHER INFORMATION CONTACT: Pam Sichting at 541-957-3342 or by e-mail at psichting@fs.fed.us. Individuals who use telecommunication devices for the deaf (TDD) may call the Federal Information Relay Service (FIRS) at 1-800-877-8339 between 8 a.m. and 8 p.m., Eastern Time, Monday through Friday.

SUPPLEMENTARY INFORMATION:

Extension of Scoping Period

Several requests were received during the initial scoping period for an extension of the scoping period because of the nature of the project. The Responsible Officials have decided it is in the best interest of the public to extend the time during which scoping comments are received.

Lead Agency

The Forest Service is the Lead Agency for amendments of Forest Plans.

Responsible Official

The Responsible Officials for amendments of the Rogue River, Umpqua and Winema LRMPs are respectively Forest Supervisors, Scott D. Conroy, Clifford J. Dils and Karen Shimamoto.

Nature of Decision To Be Made

The nature of the decision to be made is whether the respective LRMPs would be amended if the FERC authorizes the PCGP.

Scoping Process

This notice of intent extends the scoping process, which guides the development of the environmental impact statement. With this extension, the Forest Service is requesting public comments on the proposed amendments of the Rogue River, Umpqua and Winema NF LRMPs.

It is important that reviewers provide their comments at such times and in such manner that they are useful to the agency's preparation of the environmental impact statement. Therefore, comments should be provided prior to the close of the comment period, now July 31, 2009, and should clearly articulate the reviewer's concerns and contentions. The submission of timely and specific comments can affect a reviewer's ability to participate in subsequent administrative appeal or judicial review.

Dated: June 30, 2009.
Gina Freel.
Acting Forest Supervisor.

[FR Doc. E9-16384 Filed 7-9-09; 8:45 am]

BILLING CODE 3410-11-P